DEPARTMENT OF DEFENSE

Department of Army; Corps of Engineers

Intent To Prepare a Draft Environmental Impact Statement (DEIS) for a Proposed Green Book Flood Control Project, Upper Portion of the Green Brook SubBasin of the Raritan River Basin Middlesex, Somerset and Union Counties, State of New Jersey

AGENCY: U.S. Army Corps of Engineers, DoD.

ACTION: Notice of intent.

SUMMARY: The U.S. Army Corps of Engineers (USACE), New York District, announces its intent to prepare an Environmental Impact Statement (EIS) pursuant to the National Environmental Policy Act (NEPA), in accordance with the Council on Environmental Quality (CEQ) Regulations for Implementing the Procedural Provisions of NEPA and the Department of the Army, USACE Procedures for Implementing NEPA of New Jersey. Flood protection methods for the three study areas of the Green Brook Sub-basin; the Upper Portion, the Lower Portion and the Stony Brook Portion; were previously evaluated in the USACE 1980 Environmental Impact Statement and the USACE May 1997 Final General Reevaluation Report and Supplemental Environmental Impact Statement. Action within the Upper Portion of the Sub-basin was deferred until this time based on a degree of public concern regarding previously proposed flood control plans for the Upper Portion. The USACE has initiated a Reformulation Study to evaluate reasonable solutions to flooding problems in the Upper Portion previously identified in the May 1977 GRR. In accordance with USACE policies, the Reformulation Study will evaluate a range of alternatives including nonstructural measures, channel modifications, flood control tunnels, surface diversions, and detention structures.

FOR FURTHER INFORMATION CONTACT: Questions about the proposed action and draft EIS can be answered by Ms. Megan B. Grubb, (212) 264-5759, U.S. Army Engineer District, New York Planning Division, Attn: CENAN-PL-EA, 26 Federal Plaza, New York, NY 10278-0090.

SUPPLEMENTARY INFORMATION:

Background

The Green Book Sub-basin of the Raritan River Basin has been subject to frequently severe and sometimes devastating flooding from storms ranging from local thunderstorms to tropical storms. After devastating flood events in 1971 and 1973, a basin wide flood protection study was initiated. The basin wide study led to the development of the USACE 1980 Feasibility Report and Final Environmental Impact Statement for Flood Control, Green Brook Sub-basin. These USACE documents evaluated flood control plans for three areas of the basin, Lower Portion, Upper Portion and Stony Brook Portion. The Water Resources Development Act of 1986 “adopted and authorized to be prosecuted by the Secretary (of the Army) * * * ” Plan A of the 1980 Feasibility Study, which provided basin-wide flood protection with a 500-year level of protection. The USACE prepared a May 1997 Final General Reevaluation Report and Supplemental Environmental Impact Statement (SEIS) [Federal Register: October 9, 1997 (Volume 62, Number 196)] which affirmed that the authorization remained appropriate for the Green Brook Sub-basin based on current problems, needs, and planning and design criteria. During the public coordination process for the May SEIS, concern was expressed over potential environmental and social impacts of the proposed plan in the Upper Portion of the basin. As a result, the USACE and the project's local sponsor agreed to proceed with construction in the Lower and Stony Brook Portions of the basin, but to defer action on the Upper Portion of the basin. The USACE has initiated a Reformulation Study to evaluate reasonable solutions to flooding problems in the Upper Portion previously identified in the May 1997 GRR. In accordance with USACE policies, the Reformulation Study will evaluate a range of alternatives including nonstructural measures, channel modifications, flood control tunnels, surface diversions, and detention structures.

EIS Scope

The intended EIS will evaluate the potential environmental impacts associated with the proposed flood control alternatives for the Upper Portion of the Green Brook Sub-basin of the Raritan River Basin, Middlesex, Somerset and Union Counties, State of New Jersey.

Public Involvement

The USACE intends to schedule an interagency meeting in February 2001 to discuss the scope of the EIS and data gaps. Two public scoping meetings are anticipated to be scheduled in March 2001. Scoping documents will be made available at least one month before scheduled public scoping meeting dates at the following locations:

Berkley Heights Public Library, 290 Plainfield Avenue, Berkley Heights, New Jersey.

Fanwood Public Library, North Avenue and Tilloston road, Fanwood, New Jersey.

North Plainfield Library, 6 Rockview Avenue, North Plainfield, New Jersey.

Plainfield Public Library, 8th and Park Avenue, Plainfield, New Jersey.

Scotch Plains Public Library, 1927 Bartle Avenue, Scotch Plains, New Jersey.

South Plainfield Public Library, 2840 Plainfield Avenue, South Plainfield, New Jersey.

Watchung Public Library, 12 Stirling Road, Watchung, New Jersey.

The public will have an opportunity to provide written and oral comments at the public scoping meetings. Public scoping meeting places, dates and times will be advertised in advance in local newspapers, and meeting announcement letters will be sent to interested parties. Written comments may also be submitted via mail and should be directed to Ms. Megan B. Grubb at the address listed above in the FOR FURTHER INFORMATION CONTACT section. The USACE plans to issue the draft EIS in the Spring of 2002. The USACE will announce availability of the draft in the Federal Register and other media, and will provide the public, organizations, and agencies with an opportunity submit comments, which will be addressed in the final EIS.

John A. Hall,
Alternate Army Federal Register Liaison Officer.

[FR Doc. 01-766 Filed 1-9-01; 8:45 am]

BILLING CODE 3710-06-M